DEPARTMENT OF ENERGY

Federal Energy Regulatory Commission

[Project No. 1864-083]

Upper Peninsula Power Company; Notice of Application and Soliciting Comments, Motions To Intervene, and Protests

December 28, 2007.

Take notice that the following application has been filed with the Commission and is available for public inspection:

a. Application Type: Shoreline Management Plan (SMP).

b. Project No.: 1864-083.

c. Date Filed: November 29, 2007.

d. Applicant: Upper Peninsula Power Company (UPPCO).

e. Name of Project: Bond Falls Hydroelectric Project.

f. Location: The project is located on the Ontonagon River in Ontonagon and Gogebic Counties, Michigan, and Vilas County, Wisconsin, and partially on lands within the Ottawa National Forest.

g. Filed Pursuant to: Federal Power Act, 16 U.S.C. 791(a)-825(r).

h. Applicant Contact: Shawn C. Puzen, Environmental Consultant, Integrys Business Support, LLC, 700 North Adams Street, P.O. Box 19001, Green Bay, WI 54307-9001, (920) 433-1094.

i. FERC Contact: Any questions on this notice should be addressed to Lesley Kordella at (202) 502-6406, or by e-mail: lesley.kordella@ferc.gov.

j. Deadline for filing comments and/or motions: January 29, 2008.

All documents (original and eight copies) should be filed with: Kimberly D. Bose, Secretary, Federal Energy Regulatory Commission, DHAC, PJ-12.1, 888 First Street, NE., Washington, DC 20426. Please reference the project number (P-1864-083) on any comments or motions filed. Comments and motions filed need to carefully specify the appropriate project number in order to avoid confusion with the SMP's concurrently filed by UPPCO for four other projects (see item k below). Comments, protests and interventions may be filed electronically via the Internet in lieu of paper. See, 18 CFR 385.2001(a)(1)(iii) and the instructions on the Commission's web site under the “e-Filing” link. The Commission strongly encourages electronic filings.

k. Description of Proposal: UPPCO filed a proposed SMP for the Bond Falls Project to address the land use pressures and potential impacts anticipated from the sale of adjacent non-project lands to residential real estate developers. The project includes the Bond Falls, Bergland, Cisco, and Victoria impoundments; the SMP applies only to the Bond Falls and Victoria impoundments. UPPCO is also requesting articles 416 (recreation plan) and 413 (buffer zone plan) of the license be amended. SMP's for the Au Train Project (P-10856-061), the Cataract Project (P-10854-080), the Escanaba Project (P-2506-144), and the Prickett Project (P-2402-108) were filed concurrently with the SMP for the Bond Falls Project, and are being noticed separately by the Commission.

l. This filing is available for review at the Commission in the Public Reference Room or may be viewed on the Commission's Web site at http://www.ferc.gov using the “eLibrary” link. Enter the docket number excluding the last three digits in the docket number field to access the document. For assistance, contact FERC Online Support at FERCOnlineSupport@ferc.gov or call toll-free 1-866-208-3676, or for TTY, call (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E8-73 Filed 1-7-08; 8:45 am]

BILLING CODE 6717-01-P